ADVISORY COUNCIL ON HISTORIC PRESERVATION

Draft Amendment to the Army Alternate Procedures

AGENCY: Advisory Council on Historic Preservation.

ACTION: Notice of intent to amend the Army Alternate Procedures.

SUMMARY: The Advisory Council on Historic Preservation (“ACHP”) proposes to amend the Army Alternate Procedures (“AAP”) which were approved by the ACHP on July 13, 2001. The AAP provide the Army with an alternate way to comply with the historic preservation review process mandated by the National Historic Preservation Act. The proposed amendment will allow the Chairman of the ACHP to approve administrative and technical amendments to the AAP.

DATES: Submit comments on or before June 16, 2003.

ADDRESSES: Address all comments concerning this proposed amendment to Mr. David Berwick, Army Program Manager, Advisory Council on Historic Preservation, 1100 Pennsylvania Avenue, NW., Suite 809, Washington, DC 20004. Fax (202) 606-8672. You may submit electronic comments to: dberwick@achp.gov.

FOR FURTHER INFORMATION CONTACT: Mr. David Berwick, 202-606-8505.

SUPPLEMENTARY INFORMATION: Section 106 of the National Historic Preservation Act requires Federal agencies to consider the effects of their undertakings on historic properties and provide the ACHP a reasonable opportunity to comment with regard to such undertakings. The Council has issued the regulations that set forth the process through which Federal Agencies comply with these responsibilities. Those regulations are codified under 36 CFR part 800 (“Section 106 regulations”).

The ACHP can allow agencies to streamline the regular Section 106 review process through alternate procedures authorized pursuant to 36 CFR 800.14(a). Instead of going through each of the steps detailed in subpart B of the Section 106 regulations, an agency can meet its Section 106 responsibilities by following an alternate procedure approved for agency implementation by the ACHP.

On July 13, 2001, the ACHP approved the Alternate Procedures proposed by the Department of the Army (“Army”) for implementation at its installations. These procedures allow installation commanders to elect to follow the AAP or continue to follow the ACHP's Section 106 regulations. As currently written, neither the AAP nor the Section106 regulations provide a process for amending previously approved alternate procedures without going back to the ACHP membership for approval.

Both the Army and the ACHP have determined that there may be times at which the AAP need to be revised to take into account changes internal to the Army. The proposed amendment would allow administrative and technical changes to be made to the AAP, and approval of these changes would be made by the Chairman of the ACHP. Changes allowed under this amendment would be changes to the AAP of a minor nature that do not have an effect on the roles of consulting parties in the process. The amendment would limit changes to those having an effect solely on the Army. Changes that would affect the role of consulting parties under the AAP would continue to require the approval of the full ACHP membership after consultation with consulting parties and the general public.

You can find a full copy of the present version of the AAP at 67 FR 10138 (March 6, 2002) and on the Internet at http://www.achp.gov/army.html.

Amendment to the Army Alternate Procedures

For the reasons stated above, the ACHP proposes to amend the AAP as follows:

Add the following subsection to the end of section 7.1 (Council Review of Army Section 106 Compliance) of the AAP:

(d) Upon request by Headquarters, Department of the Army, the Council may adopt technical and/or administrative amendments to the Army Alternate Procedures. Such amendments will take effect upon approval by the Council's Chairman. The Council shall publish in the Federal Register a notice of such amendment within 30 days after their approval. Technical and administrative amendments shall not modify the role of consulting parties in the Army Alternate Procedures.

Authority: 36 CFR 800.14(A).

Dated: May 12, 2003.
Sharon Conway,
Acting Executive Director.

[FR Doc. 03-12200 Filed 5-15-03; 8:45 am]

BILLING CODE 4310-10-M